DEPARTMENT OF JUSTICE

Antitrust Division

Notice Pursuant to the National Cooperative Research and Production Act of 1993—World Airline Entertainment Association

Notice is hereby given that, on April 18, 2005, pursuant to section 6(a) of the National Cooperative Research and Production Act of 1993, 15 U.S.C. 4301 et seq. (“the Act”), World Airline Entertainment Association (“WAEA”) has filed written notifications simultaneously with the Attorney General and the Federal Trade Commission disclosing additions or changes to its standards development activities. The notifications were filed for the purpose of extending the Act's provisions limiting the recovery of antitrust plaintiffs to actual damages under specified circumstances. Specifically, on February 25, 2005, WAEA's Board of Directors adopted WAEA Specification 1289-2. This document establishes guidelines for the recording and duplication of program master tapes for airborne audio software, and incorporates guidelines for compact disc replication and digital encoding of audio files.

On September 15, 2004, WAEA filed its original notification pursuant to section 6(a) of the Act. The Department of Justice published a notice in the Federal Register pursuant to section 6(b) of the Act on November 3, 2004 (69 FR 64108).

Dorothy B. Fountain,
Deputy Director of Operations, Antitrust Division.

[FR Doc. 05-9525 Filed 5-11-05; 8:45 am]

BILLING CODE 4410-11-M